DEPARTMENT OF ENERGY

Office of Civilian Radioactive Waste Management; Site Recommendation Consideration Process—Announcement of Supplemental Public Comment Period

AGENCY: Office of Civilian Radioactive Waste Management, Department of Energy.

ACTION: Notice of a supplemental public comment period on supplemental information regarding the Yucca Mountain site recommendation consideration process.

SUMMARY: The Department of Energy (the Department) announces a supplemental public comment period regarding the consideration of a possible recommendation of the Yucca Mountain by the Secretary of Energy. This supplemental public comment period is being offered to afford the public an additional opportunity to comment on information that was not available during the comment period that ended on October 19, 2001.

DATES: The 30 day comment period begins today and closes on December 14, 2001.

ADDRESSES: Written comments should be addressed to Carol Hanlon, U.S. Department of Energy, Yucca Mountain Site Characterization Office (M/S #205), P.O. Box 364629, North Las Vegas, Nevada, 89036-8629. Supplementary analyses and updated technical information, in the form of contractor reports, are available on the Internet at www.ymp.gov or also can be obtained by calling 1-800-967-3477.

FOR FURTHER INFORMATION CONTACT: U.S. Department of Energy, Office of Civilian Radioactive Waste Management, Yucca Mountain Site Characterization Office, (M/S #025), P.O. Box 364629, North Las Vegas, Nevada 89036-8629, 1-800-967-3477.

SUPPLEMENTARY INFORMATION: Today the Department announces a 30-day supplemental comment period regarding possible site recommendation of Yucca Mountain as a geologic repository.

In a Federal Register Notice of October 5, 2001, (66 FR 51027), the Secretary indicated that there would be a later public involvement opportunity closer to the decision time on a possible Yucca Mountain site recommendation, the scope of which would be focused exclusively on issues that could not have been raised in the comment period which ended on October 19, 2001. This notice announces the beginning and closing of that opportunity for public involvement.

Since the close of the public comment period on October 19, 2001, the Department has completed preparation of supplemental analyses addressing, to the extent necessary, changes from the proposed to the final regulations of the Environmental Protection Agency (EPA) establishing public health and safety standards for a repository at Yucca Mountain, 40 CFR part 197, and of the Nuclear Regulatory Commission (NRC) establishing licensing regulations for such a repository, 10 CFR part 63. The EPA issued its final regulations on June 13, 2001 (66 FR 32074); the NRC finalized its regulations, with conforming changes to implement the final EPA public health and safety standards, on November 2, 2001 (66 FR 55732). Following issuance of 10 CFR part 63, the Department finalized its regulation, 10 CFR part 963, establishing guidelines for the Secretary to determine the suitability of the Yucca Mountain site. Those final DOE regulations have been promulgated in a separate part of today's Federal Register.

In addition to the supplemental analyses described above, the Department's site characterization work has continued since publication of the Science and Engineering Report (S&ER), and the Preliminary Site Suitability Evaluation (PSSE). The Department has prepared a report to reflect this updated technical and scientific information completed since publication of the S&ER in May 2001.

The supplementary analyses and updated technical information documents referenced above, in the form of contractor reports, are available on the Internet at www.ymp.gov or also can be obtained by calling 1-800-967-3477. These documents are entitled as follows:

(i) Total System Performance Assessment—Analyses for Disposal of Commercial and DOE Waste Inventories at Yucca Mountain-Input to the Final Environmental Impact Statement and Site Suitability Evaluation; Bechtel SAIC Company, LLC (September 17, 2001);

(ii) TSPA Sensitivity Analyses for Final Regulations; Bechtel SAIC Company, LLC (November 2001); and,

(iii) Technical Update Impact Letter Report; Bechtel SAIC Company, LLC (November 2001).

Additional information on the Civilian Radioactive Waste Management program may be obtained at the Yucca Mountain web site at www.ymp.gov or by calling 1-800-967-3477.

Issued in Washington, DC on November 8, 2001.
Lake H. Barrett,
Acting Director.

[FR Doc. 01-28649 Filed 11-13-01; 8:45 am]

BILLING CODE 6450-01-P